POSTAL SERVICE

Notice of Availability: Beta Test of Electronic Product Fulfillment for Addressing and Delivery Management Products

AGENCY: Postal Service.

ACTION: Notice.

SUMMARY: The National Customer Support Center (NCSC) is seeking current National Change of Address Link (NCOA®), Delivery Point Verification (DPV®), Delivery Sequence File, Second Generation (DSF®), and Address Matching System-Application Program Interface (AMS API) licensees to test a beta web service that allows the electronic download of these products through the USPS® Electronic Product Fulfillment (EPF) Web site.

DATES: Interested licensees should submit requests for participation to ncoalink@usps.gov on or before March 15, 2013.

ADDRESSES: Interested licensees may direct questions or requests for additional information to ncoalink@usps.gov to: Mr. Charles B. Hunt, Program Manager, Licensing Group, Address Management, U.S. Postal Service, 225 N Humphreys Blvd. Ste. 501, Memphis, TN 38188-1001.

FOR FURTHER INFORMATION CONTACT: Charles B. Hunt at (901) 681-4651, or Angela D. Lawson at (901) 681-4458.

SUPPLEMENTARY INFORMATION: The Postal Service is continuing its efforts to minimize production costs, and provide a convenient and more rapid method for postal licensees to obtain their data products, by offering the capability to download these products via a secure service. These large data files are currently not available for electronic transfer, however the Postal Service would like to offer the functionality to transfer these data files to licensees to ensure industry compatibility and security compliance, and identify opportunities for service improvement. This functionality will give licensees more flexibility and effectiveness with data installation and production management.

Accordingly, the National Customer Support Center (NCSC) is seeking current NCOA®, DPV®, DSF®, and AMS API licensees to test a beta web service that allows the electronic download of these products through the USPS® Electronic Product Fulfillment (EPF) Web site. Participation in this beta test is strictly limited to the following types of current licensees of the indicated postal products:

• NCOA®: Full Service Providers, Limited Service Providers, End Users, Mail Processing Equipment (MPE) Data Users.

• DPV®: Licensees,

• DSF®: Licensees,

• AMS API Product: Licensees.

Enrollment in this beta service is optional, but participants must first complete an agreement that defines the permitted uses of the beta service. The materials, hardware, activities, provisions, and other assumptions for this beta service are summarized as follows:

General Parameters:

• Beta testers (Betas) will support the test with sufficient resources to produce an interface in a timely manner.

• All Betas will be current users of the production version of the beta products.

• The test period will last no more than 90 days from the time materials are provided to Betas.

• Betas will provide feedback that can enhance the fielding of the final product or service.

• Betas will sign a confidentiality statement and an agreement to participate prior to receiving any materials.

Duties of Licensees:

• Licensees will provide their own computer hardware.

• Licensees will be responsible for programming resources, as Betas will be required to set up a method for downloading the electronic files via Web service; there is no USPS-provided interface.

• Licensees must complete an Electronic Product Fulfillment Web Access Form (located at http://about.usps.com/forms/ps5116.pdf).

Postal Service Assistance:

• The Postal Service will provide suggestions regarding the minimum computer hardware required for participation.

• The Postal Service will provide a Login ID and password to the fulfillment server.

• The Postal Service will provide a document describing the location of product files.

Stanley F. Mires,
Attorney, Legal Policy & Legislative Advice.

[FR Doc. 2013-03664 Filed 2-15-13; 8:45 am]

BILLING CODE 7710-12-P